FEDERAL COMMUNICATIONS COMMISSION

Open Commission Meeting, Thursday, February 23, 2017

February 16, 2017.

The Federal Communications Commission will hold an Open Meeting on the subjects listed below on Thursday, February 23, 2017 which is scheduled to commence at 10:30 a.m. in Room TW-C305, at 445 12th Street SW., Washington, DC.

Item No. | Bureau | Subject
1 | Wireless Telecommunications and Wireline Competition | Title: Connect America Fund (WC Docket No. 10-90); A National Broadband Plan for Our Future (GN Docket No. 09-51); Establishing Just and Reasonable Rates for Local Exchange Carriers (WC Docket No. 07-135); High-Cost Universal Service Support (WC Docket No. 05-337); Developing an Unified Intercarrier Compensation Regime (CC Docket No. 01-92); Federal State Joint Board on Universal Service (CC Docket No. 96-45); Lifeline and Link-Up (WC Docket No. 03-109); Universal Service Reform—Mobility Fund (WT Docket No. 10-208). Summary: The Commission will consider a Report and Order adopting rules to provide ongoing support targeted to preserve and advance high-speed mobile broadband and voice service in high-cost areas that the marketplace does not otherwise serve.
2 | Wireline Competition | Title: Connect America Fund (WC Docket No. 10-90); ETC Annual Reports and Certifications (WC Docket No. 14-58). Summary: The Commission will consider a Report and Order and Order on Reconsideration that (1) resolves a number of issues raised in the Phase II Auction Order FNPRM, including the adoption of weights to compare bids among service performance and latency tiers, and (2) considers several petitions for reconsideration for decisions made in the Phase II Auction Order.
3 | Media and Office of Engineering & Technology | Title: Authorizing Permissive Use of the “Next Generation” Broadcast Television Standard (GN Docket No. 16-142). Summary: The Commission will consider a Notice of Proposed Rulemaking that proposes to let television broadcasters use the “Next Generation” broadcast television transmission standard associated with recent work of the Advanced Television Systems Committee (ATSC 3.0) on a voluntary, market-driven basis.
4 | Media | Title: Revitalization of the AM Radio Service (MB Docket No. 13-249). Summary: The Commission will consider a Second Report and Order that would relax the siting rule for an FM fill-in translator rebroadcasting an AM broadcast station.
5 | Consumer & Governmental Affairs | Title: Small Business Exemption From Open Internet Enhanced Transparency Requirements (GN Docket No. 14-28). Summary: The Commission will consider an Order granting a five-year waiver to broadband Internet access service providers with 250,000 or fewer broadband connections from the enhanced reporting requirements adopted in the 2015 Title II Order.
6 | Wireline Competiton | Title: Comprehensive Review of the Part 32 Uniform System of Accounts (WC Docket No. 14-130). Summary: The Commission will consider a Report and Order that would streamline and eliminate outdated accounting rules no longer needed to fulfill the Commission's statutory or regulatory duties.

* * * * *

Consent Agenda

The Commission will consider the following subjects listed below as a consent agenda and these items will not be presented individually:

1 | Media | Title: Delta Radio Network, LLC, Application for Minor Modification of Licensed Facilities of WNLA(AM), Indianola, MS. Summary: The Commission will consider a Memorandum Opinion and Order concerning an Application for Review filed by Delta Radio Network regarding the dismissal of a modification application.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-03756 Filed 2-24-17; 8:45 am]

BILLING CODE 6712-01-P